DEPARTMENT OF THE TREASURY

Internal Revenue Service

26 CFR Part 1

[REG-104226-18]

RIN 1545-BO51

Availability of Additional Guidance Under Section 965

AGENCY: Internal Revenue Service (IRS), Treasury.

ACTION: Notice of Proposed Rulemaking; notice of availability.

SUMMARY: This document announces the availability of additional guidance regarding the transition tax under section 965 issued as Notice 2018-78.

DATES: Notice 2018-78 was made available on the Internal Revenue Service (IRS) website on October 1, 2018, and will be published in the Internal Revenue Bulletin on October 15, 2018.

ADDRESSES: Notice 2018-78 is available on the IRS website at https://www.irs.gov/pub/irs-drop/n-18-78.pdf and at the Federal eRulemaking Portal at http://www.regulations.gov (under REG-104226-18).

FOR FURTHER INFORMATION CONTACT: Leni C. Perkins at (202) 317-6934.

SUPPLEMENTARY INFORMATION: On August 9, 2018, the Department of the Treasury (“Treasury Department”) and the IRS published in the Federal Register (83 FR 39514) a notice of proposed rulemaking (REG-104226-18), which contained proposed §§ 1.962-1 and 1.962-2, 1.965-1 through 1.965-9, and 1.986(c)-1 (the “proposed regulations”). The proposed regulations relate to section 965 of the Internal Revenue Code. On October 1, 2018, the Treasury Department and the IRS issued Notice 2018-78, which contained additional guidance relating to section 965 and the proposed regulations. The notice was issued in advance of final regulations under section 965 due to the imminent filing deadlines that could otherwise apply to the forms and elections described therein.

Martin V. Franks,
Chief, Publications and Regulations Branch, Legal Processing Division, Associate Chief Counsel, (Procedure and Administration).

[FR Doc. 2018-22022 Filed 10-9-18; 8:45 am]

BILLING CODE 4830-01-P